DEPARTMENT OF HEALTH AND HUMAN SERVICES

Health Resources and Services Administration

Agency Information Collection Activities: Proposed Collection: Public Comment Request; Information Collection Request Title: Poison Help General Population Survey, OMB Number 0915-0343, Reinstatement.

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). The ICR is for reinstatement of a previously approved information collection assigned OMB control number 0915-0343 that expired on May 31, 2014. Prior to submitting the ICR to OMB, HRSA seeks comments from the public regarding the burden estimate, below, or any other aspect of the ICR.

DATES: Comments on this ICR must be received no later than September 5, 2017.

ADDRESSES: Submit your request to paperwork@hrsa.gov or mail the HRSA Information Collection Clearance Officer, Room 14N39, 5600 Fishers Lane, Rockville, MD 20857.

FOR FURTHER INFORMATION CONTACT: To request more information on the proposed project or to obtain a copy of the data collection plans and draft instruments, email paperwor@hrsa.gov or call the HRSA Information Collection Clearance Officer at (301) 443-1984.

SUPPLEMENTARY INFORMATION: When submitting comments or requesting information, please include the information request collection title for reference, in compliance with Section 3506(c)(2)(A) of the Paperwork Reduction Act of 1995.

Information Collection Request Title: Poison Help General Population Survey, OMB Number 0915-0343, Reinstatement.

Abstract: HRSA is requesting approval by OMB for reinstatement of a previously approved collection of information (OMB control number 0915-0343). Annually, poison control centers (PCCs) in the U.S. manage approximately 2.8 million calls, providing ready and direct access to vital public health emergency information and response. In 2001, the Poison Help line, a single, national toll-free phone number (800-222-1222) was established to ensure universal access to PCC services, 24 hours a day, 7 days a week. The Poison Help campaign is the only national media effort to promote awareness and use of the national toll-free phone number. The Poison Help campaign aims to reach a wide audience, as individuals of all ages are at risk for poisoning and may need to access PCC services. The “Poison Help General Population Survey” is a 10-minute telephone survey designed to assess the Poison Help campaign's impact among 2,000 households in the United States. The survey is conducted with an adult household member and addresses topics related to the types of individuals or organizations to contact for information, advice, and treatment related to a poisoning.

Need and Proposed Use of the Information: Survey results will be used to guide future communication, education, and outreach efforts and will allow the tracking of longitudinal data from near-identical prior surveys conducted in 2008 and 2011. The survey has been updated to include questions regarding one of the Secretary of Health and Human Service's priority areas, addressing the opioid crisis, and definitively ascertain respondents' knowledge of the Poison Help Line and phone usage.

Likely Respondents: This study includes two respondent groups, individuals and households with an adult member 18 years and older.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

The Estimated Annualized Burden Hours
Respondents | Number of respondents | Number of responses per respondent | Total responses | Burden per response (in hours) | Total burden hours
Survey Respondents (Individuals) | 2,000 | 1 | 2,000 | .166 | 332
Screened Households | 2,600 | 1 | 2,600 | .016 | 41.6
Total | 4,600 |  | 4,600 |  | 374

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Jason E. Bennett,
Director, Division of the Executive Secretariat.

[FR Doc. 2017-14306 Filed 7-6-17; 8:45 am]

BILLING CODE 4165-15-P